DEPARTMENT OF HOMELAND SECURITY

Coast Guard

33 CFR Part 117

[Docket No. USCG-2010-0374]

Drawbridge Operation Regulations; Fox River, Green Bay, WI

AGENCY: Coast Guard, DHS.

ACTION: Notice of temporary deviation from regulations.

SUMMARY: Commander, Ninth Coast Guard District, has issued a temporary deviation from the regulation governing the operation of the Main Street Bridge at Mile 1.21 over the Fox River, at Green Bay, WI. This deviation will temporarily change the operating schedule of the bridge to accommodate the 2010 Tall Ships event in the city of Green Bay, WI. This temporary deviation allows the bridge to open once an hour on the hour for recreational vessels and commercial vessels less than 300 gross tons. The bridge will open on demand at all times for public vessels, tugs, and commercial vessels 300 gross tons or greater.

DATES: This deviation is effective from August 13, 2010 through August 15, 2010 between the hours of 9 a.m. and 5 p.m. daily.

ADDRESSES: Documents mentioned in this preamble as being available in the docket are part of docket USCG-2010-0374 and are available online by going to http://www.regulations.gov, inserting USCG-2010-0374 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Lee D. Soule, Bridge Management Specialist, Ninth Coast Guard District; telephone 216-902-6085, e-mail; lee.d.soule@uscg.mil. If you have questions on viewing the docket, call Renee V. Wright, Program Manager, Docket Operations, telephone 202-366-9826.

SUPPLEMENTARY INFORMATION: The City of Green Bay, Wisconsin, who owns and operates this drawbridge, has requested a temporary deviation from the current operating regulations set forth in 33 CFR 117.1087 to facilitate efficient management of all transportation needs and provide timely public safety services during this special event. In accordance with 33 CFR 117.35(e), the drawbridge must return to its regular operating schedule immediately at the end of the designated time period. This deviation from the operating regulations is authorized under 33 CFR 117.35.

Dated: May 10, 2010.
F.M. Midgette,
Acting Captain, Commander, Ninth Coast Guard District, U.S. Coast Guard.

[FR Doc. 2010-12977 Filed 5-28-10; 8:45 am]

BILLING CODE 9110-04-P